DEPARTMENT OF DEFENSE

Office of the Secretary

[Docket ID: DOD-2017-OS-0057]

Notice of Availability for Finding of No Significant Impact for the Environmental Assessment Addressing Construction and Operation of a Disposition Services Complex at DLA Disposition Services Red River, Texas

AGENCY: Defense Logistics Agency (DLA), Department of Defense.

ACTION: Notice of availability (NOA).

SUMMARY: On October 19, 2017, DLA published a NOA in the Federal Register announcing the publication of an Environmental Assessment (EA) Addressing Construction and Operation of a Disposition Services Complex at DLA Disposition Services Red River, Texas. The EA was available for a 30-day public comment period that ended November 20, 2017. The EA was prepared as required under the National Environmental Policy Act (NEPA) of 1969.

FOR FURTHER INFORMATION CONTACT: Ira Silverberg at 571-767-0705 during normal business hours Monday through Friday, from 8:00 a.m. to 4:30 p.m. (EDT) or by email: ira.silverberg@dla.mil.

SUPPLEMENTARY INFORMATION: DLA completed an EA to address the potential environmental consequences associated with the Proposed Action at DLA Disposition Services Red River, which is on Red River Army Depot (RRAD). This FONSI incorporates the EA by reference, summarizes the results of the analyses in the EA, and documents DLA's decision to construct and operate the Disposition Services Complex at the installation. DLA has determined that the Proposed Action is not a major federal action that significantly affects the quality of the human environment within the context of NEPA, and that no significant impacts on the human environment are associated with this decision.

No public comments were received during the EA public comment period. Red River Army Depot (RRAD), the host installation, consulted with the Texas State Historic Preservation Officer (SHPO) at the Texas Historical Commission; Texas Parks and Wildlife Department (TPWD); and the Tribal Historic Preservation Officers of the Caddo Nation, Comanche Nation, Kiowa Tribe of Oklahoma, and the Wichita and Affiliated Tribes. The Texas SHPO provided concurrence that no historic resources would be affected by the Proposed Action. TPWD provided comments and recommendations regarding protection of migratory birds, state-listed species, and other wildlife species. DLA addressed TPWD's comments and recommendations in the EA and responded to TPWD with an acknowledgment letter stating that construction activities should avoid or minimize potential impacts on the state-listed timber rattlesnake and other wildlife species. The Comanche Nation responded that a review of their site files indicated “No Properties” have been identified at the project area. RRAD did not receive responses to the consultation requests with the Caddo Nation, Kiowa Tribe of Oklahoma, or the Wichita and Affiliated Tribes. An appendix was added to the EA that includes the SHPO, TPWD, and tribal consultation documents. The revised EA is available electronically at the Federal eRulemaking Portal at http://www.regulations.gov within Docket ID: DOD-2017-OS-0057.

Purpose and Need for Action: The purpose of the Proposed Action is to provide DLA Disposition Services Red River with a reutilization, transfer, donation, and sales complex suitable for collecting, processing, and liquidating materiel from military installations and their units across northern Texas, Oklahoma, and Arkansas. The Proposed Action is needed to address the inefficiency of the facilities and resultant handling of materiel at the existing disposal operations sites.

Proposed Action and Alternatives: Under the Proposed Action, DLA would construct and operate a complex of facilities necessary to support the materiel disposal operations of DLA Disposition Services Red River. The Proposed Action would consolidate the DLA Disposition Services Red River disposal operations currently conducted at two sites on RRAD.

The primary facility would be a 145,200-square foot (ft²) noncombustible general purpose warehouse. A special foundation system would be required because of expansive clay soils. The general purpose warehouse would also include a 10,000-ft² administrative and utility annex containing a training/conference classroom, a locker room with showers and latrine, and a break room. These facilities would include fire suppression systems, utilities and communications, and security systems.

A 14.9-acre (648,000-ft²) holding and sales yard would be constructed for the sorting, processing, and open storage of large items and rolling stock. Military equipment that must be demilitarized would be fenced from material processed and displayed for commercial sales. A 4.1-acre (180,000-ft²) paved scrapyard would be constructed for the separation, processing, and transfer of scrap metal for commercial sales. A 4,608-ft² scrap area storage facility would be constructed for the management of the scrapyard operation, with two overhead covers for weather protection of the scrap bins. A weigh and dispatch facility would be constructed on the perimeter of the complex and include a 634-ft² scale house with restrooms, truck scales, a radiation detector, 5,900 ft² of covered storage, 7,200 ft² of paved vehicle parking/queuing area, and a 528-ft² restroom building. The complex would include utilities, fire protection, storm drainage, communication systems, site lighting, 383,110 ft² of paving (i.e., access roadways, hardstand aprons, parking, and walkways), security fencing, and related site improvements.

Description of the No Action Alternative: Under the No Action Alternative, DLA would not construct and operate a new DLA Disposition Services Complex at RRAD. No changes to existing facilities or their operations would result. The continued movement of materiel for disposal across the installation is unnecessary and inefficient and would continue to create traffic conflicts with installation production and safety risks. The No Action Alternative would not meet the purpose of and need for the Proposed Action.

Potential Environmental Impacts: No significant effects on environmental resources would be expected from the Proposed Action. Insignificant, adverse effects on land use and recreation, noise, air quality, geological resources, water resources, biological resources, infrastructure and transportation, and hazardous materials and wastes would be expected. Additionally, insignificant, beneficial effects on noise and infrastructure and transportation would be expected. Details of the environmental consequences are discussed in the EA, which is hereby incorporated by reference.

Determination: DLA has determined that implementation of the Proposed Action will not have a significant effect on the human environment. Human environment was interpreted comprehensively to include the natural and physical environment and the relationship of people with that environment. Specifically, no highly uncertain or controversial impacts, unique or unknown risks, or cumulatively significant effects were identified. Implementation of the Proposed Action will not violate any federal, state, or local laws. Based on the results of the analyses performed during preparation of the EA and consideration of comments received during the public comment period, Mr. Patrick Wright, Acting Director, DLA Installation Management, concludes that implementation of the Proposed Action at DLA Disposition Services Red River does not constitute a major federal action significantly affecting the quality of the human environment within the context of NEPA. Therefore, an environmental impact statement for the Proposed Action is not required.

Dated: May 29, 2018.
Shelly E. Finke,
Alternate OSD Federal Register Liaison Officer, Department of Defense.

[FR Doc. 2018-12325 Filed 6-7-18; 8:45 am]

BILLING CODE 5001-06-P